SECURITIES AND EXCHANGE COMMISSION

[File No. 500-1]

Aden Solutions, Inc.; Order of Suspension of Trading

December 6, 2013.

It appears to the Securities and Exchange Commission that there is a lack of current and accurate information concerning the securities of Aden Solutions, Inc. The company has not filed any periodic reports since the period ended September 30, 2011 and there are questions regarding the accuracy of publicly available information about the company.

The Commission is of the opinion that the public interest and the protection of investors require a suspension of trading in the securities of the above-listed company.

Therefore, it is ordered, pursuant to Section 12(k) of the Securities Exchange Act of 1934, that trading in the securities of the above-listed company is suspended for the period from 9:30 a.m. EST on December 6, 2013, through 11:59 p.m. EST on December 19, 2013.

By the Commission.
Jill M. Peterson,
Assistant Secretary.

[FR Doc. 2013-29528 Filed 12-6-13; 4:15 pm]

BILLING CODE 8011-01-P